DEPARTMENT OF HOMELAND SECURITY

Transportation Security Administration

[Docket No. TSA-2003-16345]

Notice Requesting Comment on the Imposition of the Aviation Security Infrastructure Fee; Extension of Comment Period

AGENCY: Transportation Security Administration (TSA), DHS.

ACTION: Notice; extension of comment period.

SUMMARY: This document extends the comment period for a notice that was published on November 5, 2003. In that notice, the TSA requested comments on possible changes to the way it sets the Aviation Security Infrastructure Fee (ASIF), which is a fee imposed on air carriers and foreign air carriers to help pay the Government's costs of providing civil aviation security services. The public comment period was to expire on January 5, 2004. This document extends the public comment period on the notice for an additional 30 days, until February 5, 2004. This extension is a result of a request from the Air Transport Association.

DATES: Submit comments by February 5, 2004.

ADDRESSES: Comments Submitted by Mail or In Person: Address written, signed comments to the Docket Management System, U.S. Department of Transportation, Room Plaza 401, 400 Seventh Street, SW, Washington, DC 20590-0001.

Comments that include trade secrets, confidential commercial or financial information, or sensitive security information (SSI) should not be submitted to the public regulatory docket. Please submit such comments separately from other comments. Comments containing trade secrets, confidential commercial or financial information, or SSI should be appropriately marked as containing such information and submitted by mail to the individual listed in FOR FURTHER INFORMATION CONTACT.

Comments Filed Electronically: You may also submit comments through the Internet at http://dms.dot.gov. Please be aware that anyone is able to search the electronic form of all comments received into any of these dockets by the name of the individual submitting the comment (or signing the comment, if submitted on behalf of an association, business, labor union, etc.). You may review the applicable Privacy Act Statement in the Federal Register published on April 11, 2000, (65 FR 19477) or you may visit http://dms.dot.gov.

Reviewing Comments In the Docket: All submissions to the public docket may be viewed in person in the Dockets Office between 9 a.m. and 5 p.m., Monday through Friday, except Federal holidays. The Dockets Office is on the plaza level of the NASSIF Building at the Department of Transportation at the above address. Also, you may review public dockets on the Internet at http://dms.dot.gov.

See SUPPLEMENTARY INFORMATION for format and other information about comment submissions.

FOR FURTHER INFORMATION CONTACT: Randall Fiertz, Office of Revenue, Transportation Security Administration Headquarters, West Building, Floor 5, TSA-14, 601 South 12th Street, Arlington, VA 22202; e-mail: TSA-Fees@dhs.gov, telephone: 571-227-2323.

SUPPLEMENTARY INFORMATION:

Comments Invited

The TSA invites interested persons to submit written comments, data, or views on the issues described in this notice, including comments relating to the economic, environmental, energy, or federalism impacts. See ADDRESSES above for information on where to submit comments.

Do not submit to the public regulatory docket any comments that you believe include trade secrets, confidential commercial or financial information, or sensitive security information (SSI) governed by 49 CFR part 1520. Such comments should be appropriately marked as containing such information and submitted by mail to the individual listed in FOR FURTHER INFORMATION CONTACT. When a commenter properly designates and submits confidential commercial or financial information or information the submitter considers to be a trade secret, TSA does not place it in the public docket and TSA will handle it in accordance with applicable safeguards and restrictions on access. TSA will hold it in a separate file to which the public does not have access, and place a note in the public docket that TSA has received such materials from the commenter. If TSA receives a request to examine or copy this information, TSA would treat the request as any other request under the Freedom of Information Act (FOIA) (5 U.S.C. 552) and the Department of Homeland Security's FOIA regulation found in 6 CFR part 5.

With each comment, please include your name and address, identify the docket number at the beginning, and give the reason for each comment, including any supporting data. You may submit comments and material electronically, in person, or by mail as provided under ADDRESSES, but please submit your comments and material by only one means. If you submit comments by mail or delivery, submit them in two copies, in an unbound format, no larger than 8.5 by 11 inches, suitable for copying and electronic filing.

If you want the TSA to acknowledge receipt of your comments, include with your comments a self-addressed, stamped postcard on which the docket number appears. We will stamp the date on the postcard and mail it to you.

Except for comments properly submitted as containing confidential information or SSI, we will file in the public docket all comments we receive. The docket is available for public inspection before and after the comment closing date.

We will consider all comments we receive on or before the closing date for comments. We will consider comments filed late to the extent practicable.

Document Availability

You can get an electronic copy using the Internet by—

(1) Searching the Department of Transportation's electronic Docket Management System (DMS) web page (http://dms.dot.gov/search);

(2) Accessing the Government Printing Office's web page at http://www.access.gpo.gov/su_docs/aces/aces140.html; or

(3) Visiting the TSA's Law and Policy web page at http://www.tsa.dot.gov/public/index.jsp.

In addition, copies are available by writing or calling the individual in the FOR FURTHER INFORMATION CONTACT section. Make sure to identify the docket number.

Background

On November 5, 2003, TSA published a “Notice Requesting Comment on the Imposition of the Aviation Security Infrastructure Fee” (68 FR 62613). Comments to that document were to be received on or before January 5, 2004. By a letter dated December 17, 2003, the Air Transport Association (ATA) requested that TSA extend the comment period on the notice for 30 days. ATA stated that, considering the potential substantive impact of changing the current fee methodology on their membership, it requested more time to adequately develop its comments by conducting a survey of its members so that it can provide TSA with a consensus proposal.

Extension of Comment Period

TSA has considered ATA's request and has determined that ATA has shown a substantive interest in the notice and good cause for the extension. TSA has determined that an extension of the comment period is consistent with the public interest, and that good cause exists for taking this action. Accordingly, TSA has decided to extend the public comment period on the notice for an additional 30 days. The deadline for the public to submit comments on the notice now is February 5, 2004. TSA does not anticipate any additional extensions of the public comment period for this notice.

Issued in Arlington, VA, on December 19, 2003.
Robert Gardner,
Assistant Administrator for Finance and Administration.

[FR Doc. 03-32196 Filed 12-30-03; 8:45 am]

BILLING CODE 4910-62-P